DEPARTMENT OF TRANSPORTATION

Federal Aviation Administration

14 CFR Part 39

[Docket No. 2001-NM-352-AD; Amendment 39-13707; AD 2004-13-25]

RIN 2120-AA64

Airworthiness Directives; Airbus Model A330, A340-200, and A340-300 Series Airplanes

AGENCY: Federal Aviation Administration, DOT.

ACTION: Final rule.

SUMMARY: This amendment supersedes an existing airworthiness directive (AD), applicable to certain Airbus Model A330, A340-200, and A340-300 series airplanes, that currently requires repetitive inspections to check the play of the eye-end of the piston rod of the elevator servo-controls, and follow-on corrective actions if necessary. This amendment requires the replacement of certain elevator servo-controls with new, improved servo-controls. The actions specified by this AD are intended to detect and correct excessive play of the eye-end of the piston rod of the elevator servo-controls, which could result in failure of the elevator servo-control. This action is intended to address the identified unsafe condition.

DATES: Effective August 13, 2004.

The incorporation by reference of certain publications, as listed in the regulations, is approved by the Director of the Federal Register as of August 13, 2004.

The incorporation by reference of certain other publications, as listed in the regulations, was approved previously by the Director of the Federal Register as of July 20, 2000 (65 FR 37476, June 15, 2000).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2000-12-06, amendment 39-11784 (65 FR 37476, June 15, 2000), which is applicable to certain Airbus Model A330 and A340 series airplanes, was published in the Federal Register on March 25, 2004 (69 FR 15262). The action proposed to continue to require the replacement of certain elevator servo-controls with new, improved servo-controls.

Comments

Interested persons have been afforded an opportunity to participate in the making of this amendment. Due consideration has been given to the comment received from a single commenter.

Request To Change Applicability

The commenter, the airplane manufacturer, requests that the applicability of the proposed AD be changed to match the applicability as shown in the French airworthiness directives. The commenter notes that the applicability of the French airworthiness directives lists the affected airplanes by specific model dash numbers (i.e., A330 aircraft, model -202, -223, -243, -301, etc.) The basis of the commenter's request is to limit the applicability of the proposed AD to airplane models that either contain or will contain the terminating modification in the airplane's type design, and to avoid making the proposed AD applicable to airplane models that do not have the affected servo-control part numbers specified in the proposed AD. We infer that the manufacturer wants to clarify that Airbus Model A340-541 and -642 airplanes are not affected by the proposed AD.

We partially agree with the commenter's request to change the applicability. We have changed the applicability of this final rule, but it does not match the applicability as shown in the French airworthiness directives. To avoid accidentally omitting airplane models that are listed on a U.S. type certificate data sheet (TCDS), we usually identify airplane series instead of individual model dash numbers in the applicability of our AD. The U.S. TCDS for the Model A340 includes the Model A340-200 series, comprising A340-211, -212, and -213 airplanes; the Model A340-300 series, comprising A340-311, -312, and -313 airplanes; and Model A340-541 and A340-642 airplanes. In this case Model A340-541 and -642 airplanes are not included in the applicability of the parallel French airworthiness directive. For clarification purposes, we have changed the applicability of this final rule to “Airbus Model A330 and Model A340-200 and -300 series airplanes equipped with any “SAMM” elevator servo-control having any part number (P/N) SC4800-2, SC4800-3, SC4800-4, SC4800-5, SC4800-6, SC4800-7, or SC4800-8; certificated in any category; except those with Airbus Modification 47674 installed in production.”

Conclusion

After careful review of the available data, including the comment noted above, the FAA has determined that air safety and the public interest require the adoption of the rule as proposed.

Cost Impact

There are approximately 9 airplanes of U.S. registry that will be affected by this AD.

The actions that are currently required by AD 2000-12-06 and retained in this AD take approximately 2 work hours per airplane to accomplish, at an average labor rate of $65 per work hour. Based on these figures, the cost impact of the currently required repetitive inspections is estimated to be $1,170, or $130 per airplane, per inspection cycle.

The new actions that are required by this new AD will take between 15 and 20 work hours per airplane to accomplish, at an average labor rate of $65 per work hour. Required parts will be provided at no cost. Based on these figures, the cost impact of the part replacement is estimated to be between $975 and $1,300 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340-200 or A340-300 series airplanes on the U.S. Register. However, should an affected airplane be imported and placed on the U.S. Register in the future, it would take between 15 and 20 work hours per airplane to accomplish the proposed part replacement, at an average labor rate of $65 per work hour. Based on these figures, the cost impact of part replacement would be between $975 and $1,300 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11784 (65 FR 37476, June 15, 2000), and by adding a new airworthiness directive (AD), amendment 39-13707, to read as follows:

2004-13-25 Airbus: Amendment 39-13707. Docket 2001-NM-352-AD. Supersedes AD 2000-12-06, Amendment 39-11784.

Applicability: Model A330 and A340-200 and -300 series airplanes equipped with any “SAMM” elevator servo-control having any part number (P/N) SC4800-2, SC4800-3, SC4800-4, SC4800-5, SC4800-6, SC4800-7, or SC4800-8; certificated in any category; except those with Airbus Modification 47674 installed in production.

Compliance: Required as indicated, unless accomplished previously.

To detect and correct excessive play of the eye-end of the piston rod of the elevator servo-controls, which could result in failure of the elevator servo-control, accomplish the following:

Restatement of Requirements of AD 2000-12-06

(a) Within 30 months since date of manufacture of the airplane, or within 500 flight hours after July 20, 2000 (the effective date of AD 2000-12-06), whichever occurs later, perform an inspection to check the play of the piston rod eye-ends of the elevator servo-controls, in accordance with Airbus Service Bulletin A330-27-3062 (for Model A330 series airplanes), Revision 01, dated July 21, 1999, or Revision 02, dated February 11, 2000, or Revision 03, dated August 9, 2000, or Revision 04, dated January 30, 2001; or Airbus Service Bulletin A340-27-4072 (for Model A340 series airplanes), Revision 01, dated July 21, 1999, or Revision 02, dated February 11, 2000, or Revision 03, dated August 9, 2000, or Revision 04, dated January 30, 2001; as applicable. Thereafter, repeat the inspection at intervals not to exceed 15 months, until accomplishment of paragraph (b) of this AD.

(1) If any play that is 0.0059 inch (0.15 mm) or greater and less than 0.0118 inch (0.30 mm) is detected: Prior to further flight, replace the rod eye-end with a new SARMA or NMB rod eye-end, in accordance with the applicable service bulletin.

(2) If any play that is 0.0118 inch (0.30 mm) or greater is detected: Prior to further flight, perform a dye penetrant inspection to detect cracking of the servo-control, in accordance with the applicable service bulletin.

(i) If no crack is detected: Prior to further flight, replace the rod eye-end with a new SARMA or NMB rod eye-end, in accordance with the applicable service bulletin.

(ii) If any crack is detected: Prior to further flight, replace the servo-control with a new servo-control, in accordance with the applicable service bulletin.

Note 1: Accomplishment of an inspection in accordance with Airbus Service Bulletin A330-27-3062 (for Model A330 series airplanes) or A340-27-4072 (for Model A340 series airplanes), both dated February 5, 1999; is considered acceptable for compliance with the initial inspection requirements of paragraph (a) of this AD.

Note 2: The Airbus service bulletins reference SAMM Service Bulletin SC4800-27-34-06, dated January 2, 1999, as an additional source of service information for accomplishment of the dye penetrant inspection specified by paragraph (a)(2) of this AD.

New Requirements of This AD

Replacement

(b) Within 34 months after the effective date of this AD, replace any elevator servo-control having any P/N SC4800-2, SC4800-3, SC4800-4, SC4800-5, SC4800-6, SC4800-7, or SC4800-8, with an elevator servo-control having P/N SC4800-7A or SC4800-9; in accordance with Airbus Service Bulletin A330-27-3076 (for Model A330 series airplanes) or A340-27-4083 (for Model A340 series airplanes), both Revision 02, both dated July 11, 2002; as applicable. Accomplishment of this replacement terminates the repetitive inspections required by paragraph (a) of this AD.

Note 3: The Airbus service bulletins reference TRW Service Bulletin SC4800-27-34-09, Revision 1, dated November 9, 2001, as an additional source of service information for accomplishment of the part replacement.

Alternative Methods of Compliance

(c) In accordance with 14 CFR 39.19, the Manager, International Branch, ANM-116, Transport Airplane Directorate, FAA, is authorized to approve alternative methods of compliance for this AD.

Incorporation by Reference

(d) Unless otherwise specified in this AD, the actions shall be done in accordance with the Airbus service bulletins listed in Table 1 of this AD, as applicable.

Table 1.—Airbus Service Bulletins Incorporated by Reference
Service bulletin— | Revision— | Date—
A330-27-3062 | 01 | July 21, 1999
A330-27-3062 | 02 | February 11, 2000
A330-27-3062 | 03 | August 9, 2000
A330-27-3062 | 04 | January 30, 2001
A330-27-3076 | 02 | July 11, 2002
A340-27-4072 | 01 | July 21, 1999
A340-27-4072 | 02 | February 11, 2000
A340-27-4072 | 03 | August 9, 2000
A340-27-4072 | 04 | January 30, 2001
A340-27-4083 | 02 | July 11, 2002

(1) The incorporation by reference of the Airbus Service Bulletins in Table 2 of this AD is approved by the Director of the Federal Register in accordance with 5 U.S.C. 552(a) and 1 CFR part 51:

Table 2.—New Airbus Service Bulletins Incorporated by Reference
Service bulletin— | Revision— | Date—
A330-27-3062 | 02 | February 11, 2000.
A330-27-3062 | 03 | August 9, 2000.
A330-27-3062 | 04 | January 30, 2001.
A330-27-3076 | 02 | July 11, 2002.
A340-27-4072 | 02 | February 11, 2000.
A340-27-4072 | 03 | August 9, 2000.
A340-27-4072 | 04 | January 30, 2001.
A340-27-4083 | 02 | July 11, 2002.

(2) The incorporation by reference of Airbus Service Bulletin A330-27-3062, Revision 01, dated July 21, 1999; and Airbus Service Bulletin A340-27-4072, Revision 01, dated July 21, 1999; was approved previously by the Director of the Federal Register as of July 20, 2000 (65 FR 37476, June 15, 2000).

(3) Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 4: The subject of this AD is addressed in French airworthiness directives 2001-518(B) and 2001-519(B), both dated October 31, 2001.

Effective Date

(e) This amendment becomes effective on August 13, 2004.

Issued in Renton, Washington, on June 24, 2004.
Ali Bahrami,
Manager, Transport Airplane Directorate, Aircraft Certification Service.

[FR Doc. 04-15369 Filed 7-8-04; 8:45 am]

BILLING CODE 4910-13-P